DEPARTMENT OF HOMELAND SECURITY

Federal Emergency Management Agency

44 CFR Part 67

[Docket ID FEMA-2010-0003; Internal Agency Docket No. FEMA-B-1130]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before January 5, 2011.

ADDRESSES: The corresponding preliminary Flood Insurance Rate Map (FIRM) for the proposed BFEs for each community is available for inspection at the community's map repository. The respective addresses are listed in the table below.

You may submit comments, identified by Docket No. FEMA-B-1130, to Roy E. Wright, Deputy Director, Risk Analysis Division, Federal Insurance and Mitigation Administration, Federal Emergency Management Agency, 500 C Street, SW., Washington, DC 20472, (202) 646-3461, or (e-mail) roy.e.wright@dhs.gov.

FOR FURTHER INFORMATION CONTACT: Roy E. Wright, Deputy Director, Risk Analysis Division, Federal Insurance and Mitigation Administration, Federal Emergency Management Agency, 500 C Street, SW., Washington, DC 20472, (202) 646-3461, or (e-mail) roy.e.wright@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Randolph County, Arkansas, and Incorporated Areas
Baltz Lake | Approximately 1,800 feet downstream of State Highway 115 | None | +278 | Unincorporated Areas of Randolph County.
| Approximately 900 feet upstream of State Highway 115 | None | +279
Black River | Approximately 9,000 feet downstream of the confluence with Mill Creek | None | +268 | City of Pocahontas, Unincorporated Areas of Randolph County.
| Approximately 2,250 feet upstream of the confluence with Pettit Creek | None | +269
Mill Creek | Just upstream of Ridgecrest Road | None | +270 | City of Pocahontas, Unincorporated Areas of Randolph County.
| Approximately 600 feet upstream of U.S. Route 62 | None | +288
Pettit Creek | At the confluence with the Black River | None | +269 | City of Pocahontas, Unincorporated Areas of Randolph County.
| Approximately 1,500 feet upstream of U.S. Route 67 | None | +269
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Pocahontas
Maps are available for inspection at 410 North Marr Street, Pocahontas, AR 72455.
Unincorporated Areas of Randolph County
Maps are available for inspection at 107 West Broadway Street, Pocahontas, AR 72455.
Polk County, Iowa, and Incorporated Areas
Big Creek Lake | Entire shoreline within the City of Polk City | None | +926 | City of Polk City.
Fourmile Creek | Approximately 0.7 mile upstream of Northeast 14th Street | None | +947 | City of Alleman.
| Approximately 1,150 feet south of the intersection of Northeast 6th Street and Northwest 134th Avenue | None | +953
Fourmile Creek | Approximately 1,100 feet east of the intersection of Northwest 2nd Street and Northwest 134th Avenue | None | +961 | City of Alleman.
| At the intersection of Northwest 2nd Street and Northwest 142nd Avenue | None | +966
Mud Creek | Approximately 0.5 mile upstream of the confluence with the Des Moines River | None | +780 | City of Runnells.
| Approximately 1.25 mile upstream of the confluence with the Des Moines River | None | +780
North River | At the intersection of Southeast 72nd Avenue and Southwest 60th Street | +780 | +781 | Unincorporated Areas of Polk County.
| At the intersection of Southeast Avon Drive and Southwest Goodhue Drive | +780 | +782
Raccoon River | Approximately 250 feet upstream of the I-35 crossing | +828 | +829 | Unincorporated Areas of Polk County.
| Approximately 1.6 mile upstream of the I-35 crossing | +831 | +833
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Alleman
Maps are available for inspection at 14000 Northeast 6th Street, Alleman, IA 50007.
City of Polk City
Maps are available for inspection at 112 3rd Street, Polk City, IA 50226.
City of Runnells
Maps are available for inspection at 110 Brown Street, Runnells, IA 50237.
Unincorporated Areas of Polk County
Maps are available for inspection at 111 Court Avenue, Des Moines, IA 50309.
Dakota County, Minnesota, and Incorporated Areas
Alimagnet Lake | Entire shoreline within Dakota County | None | +959 | City of Apple Valley.
Keller Lake | Entire shoreline within Dakota County | None | +936 | City of Apple Valley.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Apple Valley
Maps are available for inspection at 7100 West 147th Street, Apple Valley, MN 55124.
Cambria County, Pennsylvania (All Jurisdictions)
Chest Creek | Approximately 0.38 mile downstream of the railroad | None | +1723 | Township of Chest, Township of Elder.
| Approximately 1,240 feet upstream of Ridge Avenue | None | +1733
Clapboard Run | Approximately 670 feet upstream of Martin Road | None | +1923 | Township of Richland.
| Approximately 710 feet upstream of Martin Road | None | +1923
Clearfield Creek | Approximately 130 feet upstream of Liberty Street | None | +1623 | Township of Allegheny, Township of Gallitzin.
| Approximately 375 feet upstream of the confluence with Clearfield Creek Tributary A | None | +1626
Conemaugh River | Approximately 510 feet downstream of the confluence with Laurel Run No. 4 | None | +1154 | Township of Lower Yoder.
| Approximately 395 feet downstream of the confluence with Laurel Run No. 4 | None | +1154
Fox Run | Approximately 1,560 feet upstream of 8th Street | None | +1503 | Township of Susquehanna.
| Approximately 1,790 feet upstream of 8th Street | None | +1505
Laurel Run Tributary A | Approximately 120 feet downstream of the confluence with Laurel Run No. 2 | None | +1607 | Township of Croyle.
| Approximately 100 feet downstream of the confluence with Laurel Run No. 2 | None | +1608
Little Conemaugh River | Approximately 790 feet downstream of the confluence with South Branch Little Conemaugh River | None | +1469 | Township of Conemaugh, Township of East Taylor.
| Approximately 765 feet downstream of the confluence with South Branch Little Conemaugh River | None | +1469
Little Conemaugh River | Approximately 295 feet upstream of the railroad | None | +1536 | Township of Croyle.
| Approximately 520 feet upstream of the railroad | None | +1537
Little Conemaugh River | Approximately 0.49 mile upstream of the railroad | None | +1560 | Township of Summerhill.
| Approximately 0.51 mile upstream of the railroad | None | +1560
Little Conemaugh River | Approximately 715 feet upstream of the railroad | None | +1761 | Township of Portage.
| Approximately 1,475 feet upstream of the railroad | None | +1767
Little Conemaugh River | Approximately 1,555 feet downstream of the confluence with Bear Rock Run | None | +1861 | Township of Washington.
| Approximately 1,480 feet downstream of the confluence with Bear Rock Run | None | +1862
Little Paint Creek | Approximately 0.77 mile upstream of Bridge Street | None | +1734 | Township of Richland.
| Approximately 0.79 mile upstream of Bridge Street | None | +1735
North Branch Little Conemaugh River | Approximately 815 feet downstream of Evergreen Road | None | +1555 | Township of Summerhill.
| Approximately 105 feet downstream of Evergreen Road | None | +1556
Paint Creek | Approximately 0.47 mile downstream of Scalp Avenue | None | +1548 | Township of Richland.
| Approximately 0.44 mile downstream of Scalp Avenue | None | +1552
Sams Run | Approximately 260 feet upstream of Belmont Street | None | +1808 | Township of Richland.
| Approximately 375 feet upstream of Belmont Street | None | +1810
Solomon Run | Approximately 1,730 feet upstream of Widman Street | +1390 | +1387 | Township of Stonycreek.
| Approximately 1,750 feet upstream of Widman Street | +1390 | +1390
South Branch Blacklick Creek | Approximately 0.56 mile downstream of Chestnut Street | None | +1700 | Township of Blacklick, Township of Jackson.
| Approximately 0.54 mile downstream of Chestnut Street | None | +1700
South Fork Little Conemaugh River | Approximately 0.76 mile downstream of Cedar Street | None | +1849 | Township of Summerhill.
| Approximately 0.62 mile downstream of Cedar Street | None | +1862
St. Clair Run | Approximately 1,200 feet downstream of Tremont Road | +1228 | +1229 | Township of Lower Yoder.
| Approximately 35 feet downstream of Tremont Road | +1260 | +1260
West Branch Susquehanna River | Approximately 0.53 mile downstream of Redbud Street | None | +1437 | Township of Susquehanna.
| Approximately 0.51 mile downstream of Redbud Street | None | +1437
West Branch Susquehanna River | Approximately 1,500 feet upstream of the confluence with Fox Run | None | +1480 | Township of Barr.
| Approximately 1,550 feet upstream of the confluence with Fox Run | None | +1480
West Branch Susquehanna River | Approximately 285 feet upstream of the railroad | None | +1538 | Township of Barr.
| Approximately 910 feet upstream of the railroad | None | +1549
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
Township of Allegheny
Maps are available for inspection at the Allegheny Township Building, 107 Storm Road, Loretto, PA 15940.
Township of Barr
Maps are available for inspection at the Barr Township Building, 389 Moss Creek Road, Northern Cambria, PA 15714.
Township of Blacklick
Maps are available for inspection at the Blacklick Township Building, 138 Duman Road, Belsano, PA 15922.
Township of Chest
Maps are available for inspection at the Chest Township Building, 2658 Saint Lawrence Road, Flinton, PA 16640.
Township of Conemaugh
Maps are available for inspection at the Conemaugh Township Municipal Building, 104 Janie Street, Johnstown, PA 15902.
Township of Croyle
Maps are available for inspection at the Croyle Township Building, 1654 Railroad Street, Summerhill, PA 15958.
Township of East Taylor
Maps are available for inspection at the East Taylor Township Building, 1552 William Penn Avenue, Conemaugh, PA 15909.
Township of Elder
Maps are available for inspection at the Elder Township Building, 302 Scout Road, Hastings, PA 16646.
Township of Gallitzin
Maps are available for inspection at the Gallitzin Township Building, 245 Amsbry Street, Gallitzin, PA 16641.
Township of Jackson
Maps are available for inspection at the Jackson Township Building, 513 Pike Road, Johnstown, PA 15909.
Township of Lower Yoder
Maps are available for inspection at the Lower Yoder Township Building, 128 J Street, Johnstown, PA 15906.
Township of Portage
Maps are available for inspection at the Township Building, 416 Miller Shaft Road, Portage, PA 15946.
Township of Richland
Maps are available for inspection at the Richland Township Building, 322 Schoolhouse Road, Johnstown, PA 15904.
Township of Stonycreek
Maps are available for inspection at the Stonycreek Township Building, 1610 Bedford Street, Suite 3, Johnstown, PA 15902.
Township of Summerhill
Maps are available for inspection at the Summerhill Township Building, 114 Irvan Street, Beaverdale, PA 15958.
Township of Susquehanna
Maps are available for inspection at the Susquehanna Township Building, 508 Hillcrest Street, Northern Cambria, PA 15714.
Township of Washington
Maps are available for inspection at the Washington Township Building, 93 Jones Street, Lilly, PA 15938.
Crawford County, Pennsylvania (All Jurisdictions)
Conneaut Creek | Approximately 975 feet downstream of Old Depot Road | None | +842 | Township of Spring.
| Approximately 80 feet upstream of Old Depot Road | None | +927
Conneaut Outlet | Approximately 400 feet downstream of Mercer Pike | None | +1066 | Township of Union.
| Approximately 1,000 feet upstream of Marsh Road | None | +1066
Conneauttee Creek | Just upstream of State Route 99 | None | +1142 | Township of Venango.
| Approximately 385 feet downstream of McClellan Street | None | +1142
French Creek | Approximately 10 feet upstream of Townhall Road | None | +1066 | Township of Union.
| Approximately 1.97 mile downstream of Williams Street | None | +1072
French Creek | Approximately 0.86 mile downstream of Gravel Run Road | None | +1133 | Township of Venango.
| Approximately 696 feet downstream of McClellan Street | None | +1142
French Creek | Approximately 1.17 mile upstream of Main Street | None | +1143 | Township of Rockdale.
| Approximately 2.42 miles upstream of Main Street | None | +1143
Little Sugar Creek | Approximately 250 feet downstream of U.S. Route 322 | None | +1080 | Township of Wayne.
| Approximately 80 feet downstream of U.S. Route 322 | None | +1082
Torry Run | Approximately 0.56 mile downstream of Drake Mills Road | None | +1142 | Township of Venango.
| Approximately 0.38 mile upstream of Drakes Mills Road | None | +1142
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
Township of Rockdale
Maps are available for inspection at the Rockdale Township Hall, 29393 Miller Station Road, Cambridge Springs, PA 16403.
Township of Spring
Maps are available for inspection at the Spring Township Building, 16 Beaverridge Road, Beaver Springs, PA 17812.
Township of Union
Maps are available for inspection at the Union Township Municipal Building, 3111 State Route 72, Jonestown, PA 17038.
Township of Venango
Maps are available for inspection at the Venango Township Supervisor's Office, 21790 Center Road, Venango, PA 16440.
Township of Wayne
Maps are available for inspection at the Wayne Township Supervisor's Office, 25500 Bell Hill Road, Cochranton, PA 16314.
Indiana County, Pennsylvania (All Jurisdictions)
Conemaugh River | Approximately 1.74 mile downstream of Front Street | None | +996 | Township of Burrell.
| Approximately 1.7 mile downstream of Front Street | None | +997
Crooked Creek | Approximately 1,700 feet upstream of Fulton Run Road | None | +1025 | Township of White.
| Approximately 0.56 mile upstream of Fulton Run Road | None | +1026
Dixon Run | Approximately 1,051 feet downstream of Brocious Road | None | +1317 | Township of Rayne.
| Approximately 355 feet downstream of Brocious Road | None | +1321
Two Lick Creek | Approximately 0.85 mile downstream of Franklin Street | None | +1208 | Township of Cherryhill.
| Approximately 630 feet upstream of the confluence with Buck Run | None | +1228
Whites Run | Approximately 435 feet upstream of Chestnut Street | None | +1278 | Township of White.
| Approximately 495 feet upstream of Chestnut Street | None | +1278
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
Township of Burrell
Maps are available for inspection at the Burrell Township Building, 321 Park Drive, Black Lick, PA 15716.
Township of Cherryhill
Maps are available for inspection at the Cherryhill Township Building, 184 Spaulding Road, Penn Run, PA 15765.
Township of Rayne
Maps are available for inspection at the Rayne Township Building, 140 Tanoma Road, Home, PA 15747.
Township of White
Maps are available for inspection at the White Township Building, 1412 Park Drive, Clarksburg, PA 15725.
Somerset County, Pennsylvania (All Jurisdictions)
Casselman River | Approximately 858 feet upstream of Robert Brown Road | None | +1333 | Township of Addison.
| Approximately 1.25 mile upstream of Robert Brown Road | None | +1386
Casselman River | Approximately 1.33 mile downstream of U.S. Route 219 (Mason Dixon Highway) | None | +1945 | Township of Summit.
| Approximately 540 feet downstream of Cuba Street | None | +1952
East Branch Coxes Creek | Approximately 473 feet upstream of the Pennsylvania Turnpike | None | +2107 | Township of Somerset.
| Approximately 593 feet upstream of the Pennsylvania Turnpike | None | +2107
Laurel Hill Creek | Approximately 0.43 mile upstream of the Park Street Bridge | None | +1330 | Township of Lower Turkeyfoot.
| Approximately 0.67 mile upstream of Park Street | None | +1332
Paint Creek | Approximately 688 feet downstream of Main Street | +1628 | +1623 | Borough of Paint.
| Approximately 595 feet downstream of Main Street | +1635 | +1629
Stonycreek River | Approximately 330 feet downstream of the confluence with Quemahoning Creek | None | +1543 | Borough of Benson.
| Approximately 140 feet upstream of the confluence with Quemahoning Creek | None | +1543
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
Borough of Benson
Maps are available for inspection at 118 Main Street, Hollsopple, PA 15935.
Borough of Paint
Maps are available for inspection at 2044 Centennial Drive, Windber, PA 15963.
Township of Addison
Maps are available for inspection at 343 High Point Road, Fort Hill, PA 15540.
Township of Lower Turkeyfoot
Maps are available for inspection at 2584 Jersey Hollow Road, Confluence, PA 15424.
Township of Somerset
Maps are available for inspection at 2209 North Center Avenue, Somerset, PA 15501.
Township of Summit
Maps are available for inspection at 192 Township Office Road, Meyersdale, PA 15552.
Johnson County, Texas, and Incorporated Areas
Hurst Creek | Just upstream of County Road 601A | +680 | +679 | City of Burleson, Unincorporated Areas of Johnson County.
| Approximately 540 feet upstream of Hidden Court | +722 | +721
Little Booger Creek | Approximately 375 feet downstream of Summercrest Boulevard | +741 | +739 | City of Burleson.
| Approximately 725 feet upstream of Marcia Lane | +770 | +769
Low Branch | Approximately 1,600 feet downstream of U.S. Route 287 Business | +615 | +616 | City of Mansfield.
| Just upstream of U.S. Route 287 Business | None | +622
McAnear Creek | At the confluence with East Buffalo Creek | +731 | +732 | City of Cleburne.
| Approximately 1,850 feet upstream of Kilpatrick Avenue | +815 | +817
Quil Miller Creek | Approximately 450 feet downstream of Hidden Creek | +682 | +683 | City of Burleson, Unincorporated Areas of Johnson County.
| Approximately 75 feet east of Litchfield Lane | +694 | +695
Shannon Creek | Approximately 1,500 feet upstream of the confluence with Unnamed Tributary to Shannon Creek | +755 | +758 | City of Burleson.
| Just downstream of County Road 1020 | None | +793
Tributary of Valley Branch | Approximately 500 feet upstream of County Road 608 | +677 | +674 | Unincorporated Areas of Johnson County.
| Approximately 1,000 feet upstream of County Road 608 | +677 | +674
Unnamed Tributary to Shannon Creek | Approximately 0.30 mile upstream of the confluence with Shannon Creek | None | +756 | City of Burleson.
| Approximately 0.98 mile upstream of the confluence with Shannon Creek | None | +773
VC-8A Stream | Just upstream of Greenway Drive | +789 | +788 | City of Burleson, Unincorporated Areas of Johnson County.
| Approximately 100 feet upstream of County Road 802 | +816 | +818
Valley Branch | Approximately 0.38 mile downstream of County Road 529 | +678 | +673 | Unincorporated Areas of Johnson County.
| Approximately 1,500 feet downstream of County Road 529 | +678 | +673
Village Creek | At the northern Tarrant County boundary | +659 | +658 | City of Burleson.
| Approximately 0.44 mile upstream of the confluence with North Creek | +676 | +677
West Buffalo Creek | Approximately 650 feet downstream of Westhill Drive | +798 | +799 | City of Cleburne.
| Approximately 300 feet downstream of U.S. Route 67 | +799 | +800
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Burleson
Maps are available for inspection at City Hall, 141 West Renfro Street, Burleson, TX 76028.
City of Cleburne
Maps are available for inspection at City Hall, 10 North Robinson Street, Cleburne, TX 76033.
City of Mansfield
Maps are available for inspection at 1200 East Broad Street, Mansfield, TX 76063.
Unincorporated Areas of Johnson County
Maps are available for inspection at the Johnson County Courthouse, 2 North Main Street, Cleburne, TX 76033.
Dunn County, Wisconsin, and Incorporated Areas
Beaver Creek | Approximately 0.35 mile downstream of Main Street | +978 | +976 | Unincorporated Areas of Dunn County, Village of Downing.
| At the St. Croix County boundary | +993 | +992
Chippewa River | Approximately 0.3 mile downstream of the Chippewa River State Trail | +729 | +730 | Unincorporated Areas of Dunn County.
| Approximately 0.16 mile downstream of the Eau Claire County boundary | +759 | +760
Cranberry Creek | Just upstream of 650th Street | +736 | +737 | Unincorporated Areas of Dunn County.
| Just upstream of 90th Avenue | None | +799
Eighteen Mile Creek | Just downstream of State Highway 40 | +927 | +919 | Unincorporated Areas of Dunn County, Village of Colfax.
| At the Chippewa County boundary | None | +974
Elk Creek | Just upstream of 410th Avenue | +818 | +819 | Unincorporated Areas of Dunn County.
| Approximately 0.2 mile downstream of County Highway EE | +842 | +843
Gilbert Creek | Just downstream of County Highway PN | +787 | +788 | City of Menomonie, Unincorporated Areas of Dunn County.
| Just upstream of 550th Avenue | None | +821
Hay River | Approximately 0.3 mile upstream of County Highway D | +880 | +881 | Unincorporated Areas of Dunn County, Village of Wheeler.
| Approximately 0.5 mile downstream of the Barron County boundary | +1007 | +1008
Red Cedar River | Just downstream of County Highway Y | +729 | +730 | City of Menomonie, Unincorporated Areas of Dunn County, Village of Colfax.
| Approximately 1.4 mile upstream of County Highway V | +995 | +996
South Fork Hay River | Approximately 0.2 mile downstream of County Highway F | +916 | +917 | Unincorporated Areas of Dunn County.
| Approximately 1.5 mile upstream of State Highway 64 | +992 | +993
South Fork Lower Pine Creek | At the Barron County boundary | None | +1078 | Unincorporated Areas of Dunn County, Village of Ridgeland.
| Approximately 0.8 mile upstream of County Highway V | None | +1097
Tiffany Creek | Approximately 1.8 mile downstream of East Street | +936 | +937 | Unincorporated Areas of Dunn County, Village of Boyceville, Village of Downing.
| At the St. Croix County boundary | +983 | +982
Wilson Creek | Just upstream of Stokke Trail | None | +814 | City of Menomonie, Unincorporated Areas of Dunn County, Village of Knapp.
| At the St. Croix County boundary | None | +981
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Menomonie
Maps are available for inspection at City Hall, 800 Wilson Avenue, Menomonie, WI 53751.
Unincorporated Areas of Dunn County
Maps are available for inspection at the Dunn County Government Center, 800 Wilson Avenue, Menomonie, WI 54751.
Village of Boyceville
Maps are available for inspection at the Village Hall, 903 Main Street, Boyceville, WI 54725.
Village of Colfax
Maps are available for inspection at the Village Hall, 613 Main Street, Colfax, WI 54730.
Village of Downing
Maps are available for inspection at the Village Hall, 306 Main Street, Downing, WI 54734.
Village of Knapp
Maps are available for inspection at the Village Hall, 111 Oak Street, Knapp, WI 54749.
Village of Ridgeland
Maps are available for inspection at 103 South Elliot Street, Ridgeland, WI 54763.
Village of Wheeler
Maps are available for inspection at the Village Hall, 105 West Tower Road, Wheeler, WI 54772.

(Catalog of Federal Domestic Assistance No. 97.022, “Flood Insurance.”)

Dated: September 21, 2010.
Edward L. Connor,
Acting Federal Insurance and Mitigation Administrator, Department of Homeland Security, Federal Emergency Management Agency.

[FR Doc. 2010-25335 Filed 10-6-10; 8:45 am]

BILLING CODE 9110-12-P